DEPARTMENT OF COMMERCE

National Oceanic and Atmospheric Administration

50 CFR Part 300

[Docket No. 141219999-5053-01]

RIN 0648-BE66

Pacific Halibut Fisheries; Catch Sharing Plan

AGENCY: National Marine Fisheries Service (NMFS), National Oceanic and Atmospheric Administration (NOAA), Commerce.

ACTION: Proposed rule; request for comments.

SUMMARY: NMFS proposes to approve changes to the Pacific Halibut Catch Sharing Plan (Plan) for the International Pacific Halibut Commission's (IPHC or Commission) regulatory Area 2A off Washington, Oregon, and California (Area 2A). In addition, NMFS proposes to implement the portions of the Plan and management measures that are not implemented through the IPHC. These measures include the sport fishery allocations and management measures for Area 2A. These actions are intended to conserve Pacific halibut, provide angler opportunity where available, and minimize bycatch of overfished groundfish species.

DATES: Comments on the proposed changes to the Plan and on the proposed domestic Area 2A halibut management measures must be received by March 5, 2015.

ADDRESSES: You may submit comments on this document, identified by NOAA-NMFS-2014-0159, by any of the following methods:

• Electronic Submission: Submit all electronic public comments via the Federal e-Rulemaking Portal. Go to www.regulations.gov/#!docketDetail;D=NOAA-NMFS-2014-0159, click the “Comment Now!” icon, complete the required fields, and enter or attach your comments

• Mail: Submit written comments to William Stelle, Regional Administrator, West Coast Region, NMFS, 7600 Sand Point Way NE., Seattle, WA 98115-0070.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Sarah Williams, phone: 206-526-4646, fax: 206-526-6736, or email: sarah.williams@noaa.gov.

SUPPLEMENTARY INFORMATION:

Electronic Access

This rule is accessible via the Internet at the Office of the Federal Register Web site at http://www.access.gpo.gov/su_docs/aces/aces140.html. Background information and documents are available at the NMFS West Coast Region Web site at http://www.westcoast.fisheries.noaa.gov/fisheries/management/pacific_halibut_management.html and at the Council's Web site at http://www.pcouncil.org.

Background

The Northern Pacific Halibut Act (Halibut Act) of 1982, 16 U.S.C. 773-773K, gives the Secretary of Commerce (Secretary) general responsibility for implementing the provisions of the Halibut Convention between the United States and Canada (Halibut Convention) (16 U.S.C. 773c). It requires the Secretary to adopt regulations as may be necessary to carry out the purposes and objectives of the Halibut Convention and the Halibut Act. Section 773c of the Halibut Act also authorizes the regional fishery management councils to develop regulations in addition to, but not in conflict with, regulations of the IPHC to govern the Pacific halibut catch in their corresponding U.S. Convention waters.

Each year between 1988 and 1995, the Pacific Fishery Management Council (Council) developed and NMFS implemented a catch sharing plan in accordance with the Halibut Act to allocate the total allowable catch (TAC) of Pacific halibut between treaty Indian and non-Indian harvesters and among non-Indian commercial and sport fisheries in Area 2A. In 1995, NMFS implemented the Pacific Council-recommended long-term Plan (60 FR 14651, March 20, 1995). Every year since then, minor revisions to the Plan have been made to adjust for the changing needs of the fisheries.

For 2015, the Council recommended changes to the non-Indian fishery allocations to increase the California sport allocation. The 2015 Plan recommended by the Council and proposed to be approved by NMFS, allocates 35 percent of the Area 2A Pacific halibut TAC to Washington treaty Indian tribes in Subarea 2A-1, and 65 percent of the Area 2A TAC to non-tribal fisheries. The non-tribal allocation is divided into four separate allocations, which are proposed to be modified for 2015 by reducing the Washington and Oregon sport and commercial allocations each by one percent and increasing the California sport allocation by 3 percent. The shares are proposed to be as follows: The Washington sport fishery (north of the Columbia River) receives 35.6 percent, the Oregon sport fishery receives 29.7 percent (south of the Columbia River), the California sport fishery receives 4.0 percent, and the commercial fishery receives 30.7 percent. The commercial fishery is further divided into a directed commercial fishery allocated 85 percent of the commercial allocation, and incidental catch in the salmon troll fishery that is allocated 15 percent of the commercial allocation. The directed commercial fishery in Area 2A is confined to southern Washington (south of 46°53.30' N. lat.), Oregon, and California. North of 46°53.30' N. lat. (Pt. Chehalis), the Plan allows for incidental halibut retention in the sablefish primary fishery when the overall Area 2A TAC is above 900,000 lb (408.2 mt). The Plan also divides the sport fisheries into seven geographic subareas, each with separate allocations, seasons, and bag limits. The subarea allocations will be included in the final rule for this action after the IPHC has determined the final TAC at their annual meeting January 26-30, 2015. Therefore, this rule does not include subarea allocations, but does contain some dates for the sport fisheries based on the 2015 Plan as recommended by the Council.

Incidental Halibut Retention in the Sablefish Primary Fishery North of Pt. Chehalis, WA

The Plan provides that incidental halibut retention in the sablefish primary fishery north of Pt. Chehalis, WA, will be allowed when the Area 2A TAC is greater than 900,000 lb (408.2 mt), provided that a minimum of 10,000 lb (4.5 mt) is available above a Washington recreational TAC of 214,100 lb (97.1 mt). If the TAC is sufficient, the Council will recommend landing restrictions for public review at its March 2015 meeting and make final recommendations at its April 2015 meeting. Following this meeting, NMFS will publish the restrictions in the Federal Register.

Opportunity for Public Comment

Through this proposed rule, NMFS requests public comments on the Pacific Council's recommended modifications to the Plan and the resulting proposed domestic fishing regulations by March 5, 2015. The States of Washington, Oregon, and California will conduct public workshops shortly to obtain input on the sport season dates. Following the proposed rule comment period, NMFS will review public comments and comments from the states, and issue a final rule. Either that final rule or an additional rule will include the IPHC regulations and regulations for the West Coast and Alaska.

Proposed Changes to the Plan

Each year, the Washington Department of Fish and Wildlife (WDFW), Oregon Department of Fish and Wildlife (ODFW), California Department of Fish and Game (CDFG), and the tribes with treaty fishing rights for halibut consider whether to pursue changes to the Plan to meet the needs of the fishery. In determining whether changes are needed, the state agencies hold public meetings prior to the Council's September meeting. Subsequently, they recommend changes to the Council at its September meeting. In 2014, fishery managers from all three state agencies held public meetings on the Plan prior to the Council's September meeting. At the September 2014 Council meeting, NMFS, WDFW, ODFW, and CDFW recommended changes to the Plan and codified regulations. The tribes did not recommend any changes to the Plan or regulations. The Council voted to solicit public input on all of the changes recommended by the state agencies, several of which were presented in the form of alternatives. WDFW and ODFW subsequently held public workshops on the recommended changes.

At its November 14-19, 2014, meeting the Council considered the results of state-sponsored workshops on the recommended changes to the Plan and public input provided at the September and November Council meetings, and made its final recommendations for modifications to the Plan. NMFS proposes to adopt all of the Council's recommended changes to the Plan as further discussed below. NMFS also proposed to make a minor change to the codified regulations to update a reference to a NMFS regional office.

Changes to the Plan

1. In section (b), Allocations, this rule proposes several changes to the non-Indian allocations. The California sport fishery allocation is increased from 1 to 4 percent by reducing the Washington and Oregon sport and commercial allocations each by 1 percent. The goal of this change is to provide California with an allocation that is closer to recent effort levels while not substantially reducing the remaining non-Indian allocations.

2. In section (e)(2), NMFS proposes to remove a reference to the “fall salmon troll fisheries” as a trigger for the rollover of quota from the directed halibut fishery to the incidental salmon troll fishery because there is no “fall” salmon fishery.

3. In section (f)(1)(iv), Columbia River subarea, this rule proposes four changes. The allocation to this area is comprised of contributions from the Washington and Oregon sport allocations. The first change proposed in this rule would modify the Oregon contribution from an amount equal to the Washington contribution to 2.3 percent of the overall Oregon sport allocation. The goal of this change is to better comport with recent fishing effort off Oregon. Second, this rule proposes to make the nearshore fishery allocation 500 pounds to better reflect recent effort in the nearshore fishery. Third, the separation of quota into an early and late season is removed to allow for a continuous season. The goal of this change is to have the entire subarea quota available in the early part of the season when effort is generally higher allowing for full attainment of the subarea allocation. In previous years, quota reserved for the late season has not been used because of low effort late in the season. Fourth, flatfish are added to the list of species that may be retained and landed with halibut allowing flatfish species that share habitat with halibut to be landed rather than discarded, to reduce waste.

4. In section (f)(1)(v), Oregon central coast subarea, this rule proposes several changes to the text to implement several measures. First, there is a change to clarify that the allocation to this area is 96 percent of the Oregon sport allocation after the allocation to the Columbia River subarea has been subtracted. Second, incidental flatfish retention is added to this area consistent with the change in the Columbia River subarea. Third, the spring all depth season allocation is modified from 61 to 63 percent of the Central Coast allocation to better reflect recent effort in the spring all depth season. Fourth, the provision that allocated a percentage of the spring fishery allocation to the Southern Oregon subarea is removed and the Southern Oregon subarea allocation is derived from the overall Oregon sport allocation, after the Columbia River allocation has been removed.

5. In section (f)(1)(vi), Southern Oregon subarea, this rule proposes changes to the allocations for this subarea. The allocation is modified from 2 to 4 percent of the Oregon sport allocation after the Columbia River allocation has been subtracted, to better reflect recent effort.

6. In section (f)(1)(vii), California subarea, several changes are proposed to allocations and inseason management. First, the allocation to this subarea is modified from 1 to 4 percent of the non-Indian allocation to allow increased opportunity closer to recent effort levels in the area. Second, the structure of the fishery is modified from a multi-month 7-day-a-week fishery to a fishery that will be open 7 days a week, when open, with season dates recommended by CDFW preseason based on projected catch to attain the subarea allocation. Additionally, provisions allowing for inseason action are added for this subarea. The inseason procedures described for this subarea are identical to the inseason provisions used in the Washington and Oregon subareas.

7. In various sections of the Plan, the term “Northwest Region” is changed to “West Coast Region”, to reflect the recent merger of NMFS offices.

NMFS proposes to approve the Council's recommendations and to implement the changes described above. A version of the Plan including these changes can be found at http://www.westcoast.fisheries.noaa.gov/fisheries/management/pacific_halibut_management.html.

Changes to the Regulations

In the regulations at 50 CFR 300.63, the term “Northwest Region” is proposed to be changed to “West Coast Region”, to reflect the recent merger of NMFS offices.

Proposed 2015 Sport Fishery Management Measures

NMFS also proposes sport fishery management measures, including season dates and bag limits, that are necessary to implement the Plan in 2015. The annual domestic management measures are published each year through a final rule. For the 2014 fishing season, the final rule for Area 2A sport fisheries was published on April 4, 2014 (79 FR 18827) and the final rule for the commercial fisheries was published on March 12, 2014 (79 FR 13906) along with the IPHC regulations. Therefore, the section numbers for the commercial fisheries below refer to sections in the March 4 final rule, and the section numbers for the recreational fisheries refer to sections in the April 4 final rule. Where season dates are not indicated, those dates will be provided in the final rule, following consideration of the 2015 TAC and consultation with the states and the public.

In Section 8 of the annual domestic management measures published on March 12, 2014, “Fishing Periods,” paragraphs (2), (3), and (4) are proposed to read as follows:

(1) * * *

(2) Each fishing period in the Area 2A directed fishery shall begin at 0800 hours and terminate at 1800 hours local time on (season dates will be inserted when final rule is published), unless the Commission specifies otherwise.

(3) Notwithstanding paragraph (7) of section 11, an incidental catch fishery is authorized during the sablefish seasons in Area 2A in accordance with regulations promulgated by NMFS. This fishery will occur between 1200 hours local time on (season date will be inserted when final rule is published, if TAC is sufficient to allow incidental retention per Plan provisions).

(4) Notwithstanding paragraph (2), and paragraph (7) of section 11, an incidental catch fishery is authorized during salmon troll seasons in Area 2A in accordance with regulations promulgated by NMFS. This fishery will occur between 1200 hours local time on (season dates will be inserted when final rule is published).

In section 26 of the annual domestic management measures published in the April 4, 2014, final rule, “Sport Fishing for Halibut,” paragraph 1(a)-(b) will be updated with 2015 total allowable catch limits in the final rule. In section 26 of the annual domestic management measures, “Sport Fishing for Halibut” paragraph (8) is proposed to read as follows:

(8) * * *

(a) The area in Puget Sound and the U.S. waters in the Strait of Juan de Fuca, east of a line extending from 48°17.30′ N. lat., 124°23.70′ W. long. north to 48°24.10′ N. lat., 124°23.70′ W. long., is not managed in-season relative to its quota. This area is managed by setting a season that is projected to result in a catch of (subarea allocations will be inserted when final rule publishes).

(i) The fishing season in eastern and western Puget Sound (east and west of 123°49.50′ W. long., Low Point) is (season dates will be inserted when final rule is published).

(ii) The daily bag limit is one halibut of any size per day per person.

(b) The quota for landings into ports in the area off the north Washington coast, west of the line described in paragraph (2)(a) of section 26 and north of the Queets River (47°31.70′ N. lat.), is (subarea allocations will be inserted when final rule publishes).

(i) The fishing seasons are:

(A) Commencing on May 14 and continuing 2 days a week (Thursday and Saturday) until (subarea allocations will be inserted when final rule publishes) are estimated to have been taken and the season is closed by the Commission, or until May 23.

(B) If sufficient quota remains the fishery will reopen on June 4 and/or June 6, continuing 2 days per week (Thursday and Saturday) until there is not sufficient quota for another full day of fishing and the area is closed by the Commission. After May 23, any fishery opening will be announced on the NMFS hotline at 800-662-9825. No halibut fishing will be allowed after May 23 unless the date is announced on the NMFS hotline.

(ii) The daily bag limit is one halibut of any size per day per person.

(iii) Recreational fishing for groundfish and halibut is prohibited within the North Coast Recreational Yelloweye Rockfish Conservation Area (YRCA). It is unlawful for recreational fishing vessels to take and retain, possess, or land halibut taken with recreational gear within the North Coast Recreational YRCA. A vessel fishing in the North Coast Recreational YRCA may not be in possession of any halibut. Recreational vessels may transit through the North Coast Recreational YRCA with or without halibut on board. The North Coast Recreational YRCA is a C-shaped area off the northern Washington coast intended to protect yelloweye rockfish. The North Coast Recreational YRCA is defined in groundfish regulations at § 660.70(a).

(c) The quota for landings into ports in the area between the Queets River, WA (47°31.70′ N. lat.), and Leadbetter Point, WA (46°38.17′ N. lat.), is (subarea allocations will be inserted when final rule publishes).

(i) This subarea is divided between the all-waters fishery (the Washington South coast primary fishery), and the incidental nearshore fishery in the area from 47°31.70′ N. lat. south to 46°58.00′ N. lat. and east of a boundary line approximating the 30 fm depth contour. This area is defined by straight lines connecting all of the following points in the order stated as described by the following coordinates (the Washington South coast, northern nearshore area):

(1) 47°31.70′ N. lat, 124°37.03′ W. long;

(2) 47°25.67′ N. lat, 124°34.79′ W. long;

(3) 47°12.82′ N. lat, 124°29.12′ W. long;

(4) 46°58.00′ N. lat, 124°24.24′ W. long.

The south coast subarea quota will be allocated as follows: (subarea allocations for the primary and nearshore fisheries will be inserted when final rule publishes). The primary fishery commences on May 3, and continues 2 days a week (Sunday and Tuesday) until May 19. If the primary quota is projected to be obtained sooner than expected, the management closure may occur earlier. Beginning on May 31 the primary fishery will be open at most 2 days per week (Sunday and/or Tuesday) until the quota for the south coast subarea primary fishery is taken and the season is closed by the Commission, or until September 30, whichever is earlier. The fishing season in the nearshore area commences on May 3, and continues 7 days per week. Subsequent to closure of the primary fishery, the nearshore fishery is open 7 days per week, until (subarea allocations will be inserted when final rule publishes) is projected to be taken by the two fisheries combined and the fishery is closed by the Commission or September 30, whichever is earlier. If the fishery is closed prior to September 30, and there is insufficient quota remaining to reopen the northern nearshore area for another fishing day, then any remaining quota may be transferred in-season to another Washington coastal subarea by NMFS via an update to the recreational halibut hotline.

(ii) The daily bag limit is one halibut of any size per day per person.

(iii) Seaward of the boundary line approximating the 30-fm depth contour and during days open to the primary fishery, lingcod may be taken, retained and possessed when allowed by groundfish regulations at 50 CFR 660.360, subpart G.

(iv) Recreational fishing for groundfish and halibut is prohibited within the South Coast Recreational YRCA and Westport Offshore YRCA. It is unlawful for recreational fishing vessels to take and retain, possess, or land halibut taken with recreational gear within the South Coast Recreational YRCA and Westport Offshore YRCA. A vessel fishing in the South Coast Recreational YRCA and/or Westport Offshore YRCA may not be in possession of any halibut. Recreational vessels may transit through the South Coast Recreational YRCA and Westport Offshore YRCA with or without halibut on board. The South Coast Recreational YRCA and Westport Offshore YRCA are areas off the southern Washington coast established to protect yelloweye rockfish. The South Coast Recreational YRCA is defined at 50 CFR 660.70(d). The Westport Offshore YRCA is defined at 50 CFR 660.70(e).

(d) The quota for landings into ports in the area between Leadbetter Point, WA (46°38.17′ N. lat.), and Cape Falcon, OR (45°46.00′ N. lat.), is (subarea allocations will be inserted when final rule publishes).

(i) This subarea is divided into an all-depth fishery and a nearshore fishery. The nearshore fishery is allocated 500 pounds of the subarea allocation. The nearshore fishery is restricted to the area shoreward of the boundary line approximating the 30 fm (55 m) depth contour from Leadbetter Point to the Washington/Oregon border and the boundary line approximating the 40 fm (73 m) depth contour in Oregon. The nearshore fishery opens May 4, and continues 3 days per week (Monday—Wednesday) until the nearshore allocation is taken, or September 30, whichever is earlier. The all depth fishing season commences on May 1, and continues 4 days a week (Thursday—Sunday) until (subarea allocations will be inserted when final rule publishes) are estimated to have been taken and the season is closed by the Commission, whichever is earlier. Subsequent to this closure, if there is insufficient quota remaining in the Columbia River subarea for another fishing day, then any remaining quota may be transferred inseason to another Washington and/or Oregon subarea by NMFS via an update to the recreational halibut hotline. Any remaining quota would be transferred to each state in proportion to its contribution.

(ii) The daily bag limit is one halibut of any size per day per person.

(iii) Pacific Coast groundfish may not be taken and retained, possessed or landed, except sablefish, Pacific cod, and flatfish species when allowed by Pacific Coast groundfish regulations, when halibut are on board the vessel, during days open to the all depth fishery only.

(iv) Taking, retaining, possessing, or landing halibut on groundfish trips is only allowed in the nearshore area on days not open to all-depth Pacific halibut fisheries.

(e) The quota for landings into ports in the area off Oregon between Cape Falcon (45°46.00′ N. lat.) and Humbug Mountain (42°40.50′ N. lat.), is (subarea allocations will be inserted when final rule publishes).

(i) The fishing seasons are:

(A) The first season (the “inside 40-fm” fishery) commences July 1, and continues 7 days a week, in the area shoreward of a boundary line approximating the 40-fm (73-m) depth contour, or until the sub-quota for the central Oregon “inside 40-fm” fishery of (subarea allocations will be inserted when final rule publishes), or any in-season revised subquota, is estimated to have been taken and the season is closed by the Commission, whichever is earlier. The boundary line approximating the 40-fm (73-m) depth contour between 45°46.00′ N. lat. and 42°40.50′ N. lat. is defined at § 660.71(k).

(B) The second season (spring season), which is for the “all-depth” fishery, is open (season dates will be inserted when final rule is published). The projected catch for this season is (subarea allocations will be inserted when final rule publishes). If sufficient unharvested quota remains for additional fishing days, the season will re-open. Depending on the amount of unharvested quota available, the potential season re-opening dates will be: (season dates will be inserted when final rule is published). If NMFS decides inseason to allow fishing on any of these re-opening dates, notice of the re-opening will be announced on the NMFS hotline (206) 526-6667 or (800) 662-9825. No halibut fishing will be allowed on the re-opening dates unless the date is announced on the NMFS hotline.

(C) If sufficient unharvested quota remains, the third season (summer season), which is for the “all-depth” fishery, will be (season dates will be inserted when final rule is published) or until the combined spring season and summer season quotas in the area between Cape Falcon and Humbug Mountain, OR, are estimated to have been taken and the area is closed by the Commission, or October 31, whichever is earlier. NMFS will announce on the NMFS hotline in July whether the fishery will re-open for the summer season in August. No halibut fishing will be allowed in the summer season fishery unless the dates are announced on the NMFS hotline. Additional fishing days may be opened if sufficient quota remains after the last day of the first scheduled open period on (insert date of last open period). If, after this date, an amount greater than or equal to 60,000 lb (27.2 mt) remains in the combined all-depth and inside 40-fm (73-m) quota, the fishery may re-open every Friday and Saturday, beginning (insert date of first back up dates) and ending October 31. If after September 7, an amount greater than or equal to 30,000 lb (13.6 mt) remains in the combined all-depth and inside 40-fm (73-m) quota, and the fishery is not already open every Friday and Saturday, the fishery may re-open every Friday and Saturday, beginning September 5 and 6, and ending October 31. After September 7, the bag limit may be increased to two fish of any size per person, per day. NMFS will announce on the NMFS hotline whether the summer all-depth fishery will be open on such additional fishing days, what days the fishery will be open and what the bag limit is.

(ii) The daily bag limit is one halibut of any size per day per person, unless otherwise specified. NMFS will announce on the NMFS hotline any bag limit changes.

(iii) During days open to all-depth halibut fishing, no Pacific Coast groundfish may be taken and retained, possessed or landed, except sablefish, Pacific cod, and flatfish species, when allowed by Pacific Coast groundfish regulations, if halibut are on board the vessel.

(iv) When the all-depth halibut fishery is closed and halibut fishing is permitted only shoreward of a boundary line approximating the 40-fm (73-m) depth contour, halibut possession and retention by vessels operating seaward of a boundary line approximating the 40-fm (73-m) depth contour is prohibited.

(v) Recreational fishing for groundfish and halibut is prohibited within the Stonewall Bank YRCA. It is unlawful for recreational fishing vessels to take and retain, possess, or land halibut taken with recreational gear within the Stonewall Bank YRCA. A vessel fishing in the Stonewall Bank YRCA may not possess any halibut. Recreational vessels may transit through the Stonewall Bank YRCA with or without halibut on board. The Stonewall Bank YRCA is an area off central Oregon, near Stonewall Bank, intended to protect yelloweye rockfish. The Stonewall Bank YRCA is defined at § 660.70(f).

(f) The quota for landings into ports in the area south of Humbug Mountain, OR (42° 40.50′ N. lat.) to the Oregon/California Border (42° 00.00′ N. lat.) is (subarea allocations will be inserted when final rule publishes).

(i) The fishing season commences on May 1, and continues 7 days per week until the subquota is taken, or October 31, whichever is earlier.

(ii) The daily bag limit is one halibut per person with no size limit.

(g) The quota for landings into ports south of the Oregon/California Border (42° 00.00′ N. lat.) and along the California coast is (subarea allocations will be inserted when final rule publishes).

(i) The fishing season will be open (season dates will be inserted when final rule is published).

(ii) The daily bag limit is one halibut of any size per day per person.

Classification

Regulations governing the U.S. fisheries for Pacific halibut are developed by the IPHC, the Pacific Fishery Management Council, the North Pacific Fishery Management Council, and the Secretary of Commerce. Section 5 of the Northern Pacific Halibut Act of 1982 (Halibut Act, 16 U.S.C. 773c) provides the Secretary of Commerce with the general responsibility to carry out the Convention between Canada and the United States for the management of Pacific halibut, including the authority to adopt regulations as may be necessary to carry out the purposes and objectives of the Convention and Halibut Act. This proposed rule is consistent with the Secretary of Commerce's authority under the Halibut Act.

This proposed rule has been determined to be not significant for purposes of Executive Order 12866.

The Regulatory Flexibility Act (RFA), 5 U.S.C. 603 et seq., requires government agencies to assess the effects that regulatory alternatives would have on small entities, including small businesses, and to determine ways to minimize those effects. When an agency proposes regulations, the RFA requires the agency to prepare and make available for public comment an Initial Regulatory Flexibility Analysis (IRFA) that describes the impact on small businesses, non-profit enterprises, local governments, and other small entities. The IRFA is to aid the agency in considering all reasonable regulatory alternatives that would minimize the economic impact on affected small entities. After the public comment period, the agency prepares a Final Regulatory Flexibility Analysis (FRFA) that takes into consideration any new information or public comments. A summary of the IRFA is provided below. The reasons why action by the agency is being considered, the objectives and legal basis for this rule are described above.

The main management objective for the Pacific halibut fishery in Area 2A is to manage fisheries to remain within the TAC for Area 2A. Another main objective is to allow each commercial, recreational (sport), and tribal fishery to target halibut in the manner that is appropriate to meet both the conservation requirements for species that co-occur with Pacific halibut. A third main objective is to meet the needs of fishery participants in particular fisheries and fishing areas.

Each year, the states of Washington, Oregon, California, and the treaty tribes that fish for halibut meet with their fishery participants to review halibut management under the Plan. Based on feedback from these meetings and experience from the previous year's fishing season, the states or the tribes may propose changes to the Plan. Proposed changes to the Plan are intended to remedy any problems encountered during the previous year's management, problems with other fisheries with overlapping management jurisdiction (i.e., Pacific Coast groundfish), or other anticipated problems. For 2015, the Pacific Council recommended changes to the Plan that affect the recreational (sport) and commercial fisheries. In this rule, NMFS proposes to adopt the Council's recommended changes to the Plan, revise the annual sport fishery measures to reflect the changes to the Plan and update them with 2015 dates, and make changes to the codified regulations to update references to NMFS regional offices to reflect a recent NMFS merger. Final allocations will be included in the final rule for this action following the final TAC decision by the IPHC. The proposed changes do not affect the tribal fisheries.

Changes to the Plan

The 2A Halibut Catch Sharing Plan, as outlined above, allocates the TAC at various levels. The commercial fishery is further divided into a directed commercial fishery that is allocated 85 percent of the commercial allocation of the Pacific halibut TAC, and incidental catch in the salmon troll fishery that is allocated 15 percent of the commercial allocation. The directed commercial fishery in Area 2A is confined to southern Washington (south of 46°53.30′ N. lat.), Oregon, and California. North of 46°53.30′ N. lat. (Pt. Chehalis), the Plan allows for incidental halibut retention in the sablefish primary fishery when the overall Area 2A TAC is above 900,000 lb (408.2 mt). The Plan also divides the sport fisheries into seven geographic subareas, each with separate allocations, seasons, and bag limits. The non-tribal allocation is divided into four shares. At the first level, there are specific percentage allocations for tribal and non-tribal fisheries. The non-tribal portion is then allocated to commercial components and to recreational components. The commercial component is then apportioned into directed, incidental troll, and incidental sablefish fisheries. The recreational portions for Oregon and Washington are furthered apportioned into area subquotas and these subquotas are further split into seasonal or depth fisheries (nearshore vs all depths). There may be gear restrictions and other management measures established as necessary to minimize the potential for the allocations to be exceeded.

At the September meeting, the Council adopted a range of Plan alternatives for public review. For 2015, the Council adopted two types of Plan changes that are discussed separately below. The first were the routine recreational fishery adjustments proposed by the states each year to accommodate the needs of their fisheries. The second were allocation changes to both the non-treaty commercial and recreational fisheries in order to increase the California allocation. The Council made final Plan change recommendations from this range at its November meeting.

For the non-allocation Plan changes the Council considered changes to the Columbia River, Oregon Central Coast, Southern Oregon, and California subareas. For the Columbia River subarea the Council considered: (1) Status quo seasonal management in a spring and summer fishery and one alternative which removes the seasonal split in the Columbia River subarea to allow for a single continuous season, (2) status quo allocation contributions from Washington and Oregon in equal amounts and one alternative that modifies the Oregon contribution to the Columbia River subarea to 2.3 percent of the Oregon sport allocation, (3) status quo nearshore fishery allocation of 1,500 pounds and one alternative that modifies the Columbia River nearshore area allocation to 500 pounds. The Council recommended and NMFS proposes each of the alternatives for the Columbia River subarea. For the Oregon Central Coast subarea the Council considered three all-depth season structures and modifications to the allocation from the Oregon Central Coast spring fishery to the Southern Oregon subarea. For the season structure, the Council considered three alternatives. Status quo, separate spring and summer seasons; Alternative 1a which would combine the spring and summer season and open the fishery on May 1; and Alternative 1b which is the same as 1a, except begin on the first weekend in May that avoid negative tides. For the allocation change the Council considered: status quo, which allocates a portion of the spring fishery to the Southern Oregon subarea and one alternative which allocates a portion of the overall Oregon Central Coast subarea allocation to the Southern Oregon subarea. The Council recommended and NMFS proposes the status quo alternative for the season structure and the one alternative for the allocation to the Southern Oregon subarea. For the Southern Oregon subarea the Council considered three alternative season dates. Status quo, opening May 1, seven days per week; Alternative 1, open June 1, seven days per week; and Alternative 2, open July 1 seven days per week. The Council recommended and NMFS proposes the status quo alternative. In the Columbia River and Central Oregon Coast subareas the Council considered three alternatives to incidental groundfish retention allowances. Status quo, only Pacific cod and sablefish are allowed; Alternative 1 revise the bottomfish restrictions such that all groundfish except rockfish and lingcod would be allowed when halibut are onboard; and Alternative 2 revise the bottomfish restrictions such that other flatfish, in addition to Pacific cod and sablefish, would be allowed when halibut are onboard. The Council recommended and NMFS proposes Alternative 2. For the California subarea, the Council considered three alternatives. Status quo, fixed season open May 1-July 31 and September 1-October 31, no inseason adjustment; Alternative 1, one month season between May 1 and October 31, to be determined preseason, with inseason adjustment as needed; Alternative 2, 15 consecutive day season between May 1 and October 31, to be determined preseason, with inseason adjustment as needed. The Council recommended and NMFS proposes a modified Alternative which allows for a seven day a week fishery, that will be determined preseason through joint consultation between NMFS and CDFW, and allows for inseason adjustment as necessary. No alternatives were considered for the NMFS recommended changes because they are administrative in nature and simply update the name of the Region from Northwest to West Coast.

The changes to the Columbia River subarea allocations and incidentally landed species allowances are expected to increase recreational opportunities by shifting underutilized fishery allocation from the late to the early part of the season when effort is higher and by turning previously discarded incidental flatfish catch into landed catch. Changes to the Oregon Central Coast subarea allocation and incidentally landed species are expected to prolong seasons and increase the total number of fishing days and are expected to increase recreational opportunities by turning previously discarded incidental catch into landed catch. None of these changes are controversial and none are expected to result in substantial environmental or economic impacts. These actions are intended to enhance the conservation of Pacific halibut, to provide angler opportunity where available, and to protect overfished groundfish species from incidental catch in the halibut fisheries. Because the goal of the proposed action is to maximize angler participation and thus to maximize the economic benefits of the fishery, NMFS did not analyze alternatives to the above changes to the Plan other than the proposed changes and the status quo for purposes of the IRFA. Status quo would be the 2014 Plan applied to the 2015 TAC. Effects of the status quo and the proposed changes are similar because the changes to the Plan for 2015 are not substantially different from the 2015 Plan. The propose changes to the Plan are not expected to have a significant impact on a substantial number of small entities.

Changes to Allocations

The Small Business Administration defines a “small” harvesting business as one with annual receipts, not in excess of $20.5 million. For related fish-processing businesses, a small business is one that employs 500 or fewer persons. For wholesale businesses, a small business is one that employs not more than 100 people. For marinas and charter/party boats, a small business is one with annual receipts, not in excess of $7.5 million. This rule directly affects charterboat operations, and participants in the non-treaty directed commercial fishery off the coast of Washington, Oregon, and California. Applying the SBA's size standard for small businesses, NMFS considers all of the charterboat operations and participants in the non-treaty directed commercial fishery affected by this action as small businesses.

This analysis continues the main conclusions developed in previous analyses that charterboats and the non-treaty directed commercial fishing vessels are small businesses (See 77 FR 5477 (Feb 3, 2012) and 76 FR 2876 (Jan 18, 2011). In 2014, 591 vessels were issued IPHC licenses to retain halibut. IPHC issues licenses for: the directed commercial fishery and the incidental fishery in the sablefish primary fishery in Area 2A (166 licenses in 2014); incidental halibut caught in the salmon troll fishery (425 licenses in 2014); and the charterboat fleet (127 licenses in 2013, the most recent year available). No vessel may participate in more than one of these three fisheries per year. These license estimates overstate the number of vessels that participate in the fishery. IPHC estimates that 60 vessels participated in the directed commercial fishery, 100 vessels in the incidental commercial (salmon) fishery, and 13 vessels in the incidental commercial (sablefish) fishery. Recent information on charterboat activity is not available, prior analysis indicated that 60 percent of the IPHC charterboat license holders may be affected by these regulations.

In response to the growing California sport fishery, for 2014, a specific recreational subquota was created—1% of the non-tribal quota or 6,240 lbs. In prior years, the California fishery was a portion of the Southern Oregon/Northern California subquota. Preliminary catch data show that the California fishery has taken 31,226 lbs, five times the California subquota. Because the 2014 subquota was insuffiencent to meet the growth in the California fishery, the Council reviewed six alternatives that allocate halibut to the various sectors differently between the sectors depending on the size of the TAC. Status Quo: The non-treaty allocation is apportioned according to the 2014 CSP: Washington sport (36.60%), Oregon sport (30.70%), California sport (1.00%), and commercial (31.70%). Alternative 1: Maintain allocations as described in the CSP (Status Quo), except increase the California sport allocation by two percent, for a total California sport allocation of three percent, by reducing the non-treaty commercial fishery share. Alternative 2, Option A: Same allocations as described in Alternative 1 when the 2A TAC is one million pounds or less. When the 2A TAC is above one million pounds, the California sport allocation would increase by an additional one percent, for a total California sport allocation of four percent, by reducing the non-treaty commercial fishery share. Alternative 2, Option B: Same allocations as described in Alternative 1 when the 2A TAC is one million pounds or less. When the 2A TAC is greater than one million pounds, the first one million pounds of the 2A TAC shall be distributed according to the Alternative 1 allocations. For the portion of the 2A TAC that exceeds one million pounds, the California sport allocation would increase to 30-50 percent of the non-treaty share, and allocation percentages for the non-treaty commercial and recreational (Washington and Oregon) would be reduced to remain proportional to the status quo non-treaty shares. Alternative 3: Increase the California sport allocation by two percent, for a total California sport allocation of three percent, when the 2A TAC is less than one million pounds by reducing the three major non-treaty group allocations (i.e., Washington sport, Oregon sport, and commercial). When the 2A TAC is greater than one million pounds, the first one million pounds of the 2A TAC shall be distributed according to the Alternative 3 allocations. For the portion of the 2A TAC that exceeds one million pounds, the California sport allocation would increase to four percent of the non-treaty share by reducing the three major non-treaty group allocations. Alternative 4: Increase the California sport share by three percent, for a total allocation of four percent, when the 2A TAC is less than one million pounds by reducing the three major non-treaty group allocations. When the 2A TAC is greater than one million pounds, the first one million pounds of the 2A TAC shall be distributed according to the Alternative 4 allocations. For the portion of the 2A TAC that exceeds one million pounds, the California sport allocation would increase to five percent of the non-treaty share by reducing the three major non-treaty group allocations. Alternative 5: Increase the California sport share by four percent, for a total allocation of five percent, when the 2A TAC is less than one million pounds by reducing the three major non-treaty group allocations. When the 2A TAC is greater than one million pounds, the first one million pounds of the 2A TAC shall be distributed according to the Alternative 5 allocations. For the portion of the 2A TAC that exceeds one million pounds, the California sport allocation would increase to six percent of the non-treaty share by reducing the three major non-treaty group allocations. In addition to modifying the commercial and recreational fisheries allocations, suboptions within the allocation alternatives were evaluated for when the TAC is expected to be greater than one million pounds to cap the California allocation. These caps were designed to cap the California allocation to a level that the fishery could reasonably be expected to harvest in order to not strand pounds, therefore, making them unavailable to other fisheries. However, a one million pound TAC is a level the fishery has not experienced in recent years nor is it anticipated for the near term future. In response to the growing California sport fishery, the 2014 Plan included a specific recreational subquota of 1% of the non-tribal quota or 6,240 lbs. Prior to 2014, the California fishery was a portion of the Southern Oregon/Northern California subquota. Preliminary catch data show that the California fishery has taken 31,226 lbs, five times the 2014 California subquota.

For 2015, the Council has recommended and NMFS proposes to approve and implement Alternative 4 (the preferred alternative). For 2015, the Council recommended to increase the California recreational fishery allocation to 4% of the non-tribal allocation by reducing the Washington and Oregon sport and commercial allocations each by 1 percent. This modification is intended to provide an allocation to California that better matches recent effort. The CDFW has also committed to increased inseason monitoring in collaboration with NMFS. Pacific halibut sport fisheries in California have exceeded the allocation in recent years and therefore the goal of increased inseason monitoring and action, as necessary, is to keep the subarea within its allocation. Further, instead of a fixed season, CDFW will recommend to NMFS, similar to subareas in Washington and Oregon, a season length based on expected catch to attain the subarea quota. If the status quo is maintained, the California fishery is likely to continue to exceed its quota and suffer an early shutdown. Under the status quo alternative, the overall halibut TAC will run the risk of being exceeded, and therefore it was not selected. Alternatives 1, 2, and 3 provide increases to the recreational fishery based on decreasing the commercial quota by 2 percent. Alternative 5 increases the California subquota by 4 percent by reducing the Oregon and Washington subquota and the non-tribal commercial quota. While this favors the California fishery, it is at the expense of too large of a reduction in the other fisheries, and therefore it was not selected.

Under Alternative 4, the preferred alternative, the increase of 3% to the California subquota comes from reducing the WA sport quota by 1%, the Oregon sport quota by 1%, and the non-tribal commercial quota by 1%. The overall effect is a shift of 1% reduction of the non-tribal commercial directed quota to the total sport quota allocation. From an economic perspective, it is unclear whether this shift is negative or positive given available analyses. However the overall economic effects of this shift is small as the potential loss of about $300,000 in ex-vessel revenues must be weighed by the gain of increased charterboat recreational activities.

There are no projected reporting or recordkeeping requirements associated with this action.

There are no relevant Federal rules that may duplicate, overlap, or conflict with this action.

Pursuant to Executive Order 13175, the Secretary recognizes the sovereign status and co-manager role of Indian tribes over shared Federal and tribal fishery resources. Section 302(b)(5) of the Magnuson-Stevens Fishery Conservation and Management Act establishes a seat on the Pacific Council for a representative of an Indian tribe with federally recognized fishing rights from California, Oregon, Washington, or Idaho.

The U.S. Government formally recognizes that the 13 Washington Tribes have treaty rights to fish for Pacific halibut. In general terms, the quantification of those rights is 50 percent of the harvestable surplus of Pacific halibut available in the tribes' usual and accustomed fishing areas (described at 50 CFR 300.64). Each of the treaty tribes has the discretion to administer their fisheries and to establish their own policies to achieve program objectives. Accordingly, tribal allocations and regulations, including the proposed changes to the Plan, have been developed in consultation with the affected tribe(s) and, insofar as possible, with tribal consensus.

In 2014, a Biological Opinion (BiOp) was completed for the 2014-2016 Area 2A Pacific Halibut Catch Sharing Plan. The BiOp concluded that the continuing implementation of the Plan was not likely to adversely affect southern resident killer whales, leatherback sea turtles, humpack whales, blue whales, fin whales, Guadalupe fur seals, north Pacific right whales, sei whales, sperm whales, and steller sea lions. Further the BiOp concluded that continuing implementation of the Plan was likely to adversely affect but not likely to jeopardize Puget Sound/Georgia basin bocaccio, canary rockfish, and yelloweye rockfish, southern green sturgeon, lower Columbia River Chinook, and Puget Sound Chinook. The BiOp also concluded that the continued implementation of the Plan was not likely to adversely modify critical habitat of southern resident killer whales, leatherback sea turtles, Puget Sound/Georgia basin bocaccio, canary rockfish, and yelloweye rockfish, southern green sturgeon, lower Columbia River Chinook, and Puget Sound Chinook. Because the halibut fishery does not overlap with the critical habitat for the remaining listed species it was determined that, an evaluation of the effects on critical habitat was not applicable. Finally, in a letter dated March 12, 2014, NMFS determined that fishing activities conducted under the Plan would have no effect on Eulachon. None of the Council recommended changes to the Plan proposed in this rule change the determinations made in the BiOp because they do not result in changes to fishing behavior such that the impacts to listed species is anticipated to change. NMFS has initiated consultation with the US Fish and Wildlife Service on the ongoing implementation of the Catch Sharing Plan and its effects on short-tailed and black-footed albatross, California least tern, marbled murrelet, bull trout, and sea otters.

Authority: 16 U.S.C. 1801 et seq.

List of Subjects in 50 CFR Part 300

Administrative practice and procedure, Antarctica, Canada, Exports, Fish, Fisheries, Fishing, Imports, Indians, Labeling, Marine resources, Reporting and recordkeeping requirements, Russian Federation, Transportation, Treaties, Wildlife.

Dated: January 22, 2015.
Samuel D. Rauch III,
Deputy Assistant Administrator for Regulatory Programs, National Marine Fisheries Service.

For the reasons set out in the preamble, 50 CFR part 300 is proposed to be amended as follows:

PART 300—INTERNATIONAL FISHERIES REGULATIONS

Subpart E—Pacific Halibut Fisheries

1. The authority citation for part 300, subpart E continues to read as follows:

Authority: 16 U.S.C. 773-773k.

2. In § 300.63, revise paragraphs (a), (c)(1) introductory text, (c)(3)(ii), and (c)(5) to read as follows:

§ 300.63 Catch sharing plan and domestic management measures in Area 2A.

(a) A catch sharing plan (CSP) may be developed by the Pacific Fishery Management Council and approved by NMFS for portions of the fishery. Any approved CSP may be obtained from the Administrator, West Coast Region, NMFS.

* * * * *

(c) * * * (1) The Regional Administrator, NMFS West Coast Region, after consultation with the Chairman of the Pacific Fishery Management Council, the Commission Executive Director, and the Fisheries Director(s) of the affected state(s), or their designees, is authorized to modify regulations during the season after making the following determinations:

* * * * *

(3) * * *

(ii) Actual notice of inseason management actions will be provided by a telephone hotline administered by the West Coast Region, NMFS, at 206-526-6667 or 800-662-9825 (May through October) and by U.S. Coast Guard broadcasts. These broadcasts are announced on Channel 16 VHF-FM and 2182 kHz at frequent intervals. The announcements designate the channel or frequency over which the notice to mariners will be immediately broadcast. Since provisions of these regulations may be altered by inseason actions, sport fishers should monitor either the telephone hotline or U.S. Coast Guard broadcasts for current information for the area in which they are fishing.

* * * * *

(5) Availability of data. The Regional Administrator will compile, in aggregate form, all data and other information relevant to the action being taken and will make them available for public review during normal office hours at the West Coast Regional Office, NMFS, Sustainable Fisheries Division, 7600 Sand Point Way NE., Seattle, Washington.

* * * * *

[FR Doc. 2015-01962 Filed 1-29-15; 4:15 pm]

BILLING CODE 3510-22-P